DEPARTMENT OF THE INTERIOR

Bureau of Land Management

[ID 320 7122 EO 7979]

DEPARTMENT OF AGRICULTURE

Forest Service

Notice of Availability of Draft Environmental Impact Statement (DEIS) for the Smoky Canyon Mine, Panels F and G

AGENCIES: DOI Bureau of Land Management, Lead Agency; USDA Forest Service, Co-lead Agency; and the Idaho Department of Environmental Quality, Cooperating Agency.

ACTION: Notice of Availability of the Draft Environmental Impact Statement for the Smoky Canyon Mine, Panels F and G mine Expansion Project.

SUMMARY: In accordance with the National Environmental Policy Act of 1969 (NEPA, 102(2) (C)) and the Federal Land Policy and Management Act of 1976, the USDOI Bureau of Land Management (Lead Agency) and the USDA Forest Service (Co-lead Agency) announce the availability of the DEIS for the Smoky Canyon Mine, Panels F and G mine expansion.

DATES: The DEIS is now available for public review. Written and electronic comments regarding the DEIS should be submitted within 60 days of the date of publication of the EPA's Notice in the Federal Register. Public meetings are currently scheduled at the following locations at the following times:

Bureau of Land Management, 4350 Cliffs Drive, Pocatello, Idaho 83204; January 17, 2006; 7 p.m.

Soda Springs, City Hall, 9 West 2nd South, Soda Springs, Idaho 83276; January 18, 2006; 7:30 p.m.

Star Valley High School, 445 West Swift Creek Lane, Afton, Wyoming 83110; January 19, 2006; 7 p.m.

These dates may be subject to change. Final dates will be announced in local newspapers two weeks prior. Dates can also be confirmed by contacting the BLM or CTNF as shown below.

ADDRESSES: In addition to a mass mailing, the DEIS will be available at the Bureau of Land Management, Pocatello Field Office, 4350 Cliffs Drive, Pocatello, Idaho 83204, phone (208) 478-6340 and the Caribou-Targhee National Forest, Soda Springs Ranger District, 410 E. Hooper Ave, Soda Springs, Idaho 83276, phone (208) 547-4356. It will also be available on the BLM Web site at http://www.id.blm.gov/planning/scmdeis.

Written comments can be sent to: Smoky Canyon Mine DEIS, C/O The Shipley Group, P.O. Box 2000, Bountiful, UT 84011-2000.

Electronic comments can be sent to: scm_deis@contentanalysisgroup.com.

The BLM and FS give reviewers notice that comments should be structured so that they are meaningful and alert the agencies to a reviewer's position and contentions. It is very important that those interested in this proposed action participate by the close of the 60-day comment period for the DEIS so that substantive comments and objections are available to the BLM and FS to meaningfully consider them and respond to them in the final EIS.

Individual respondents may request confidentiality for comments submitted. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Bill Stout, Bureau of Land Management, phone (208) 478-6340; or Scott Gerwe, Caribou-Targhee National Forest, phone (208) 547-4356.

SUPPLEMENTARY INFORMATION: The following information is provided as a convenient synopsis for the public. However, this synopsis is not a substitute for review of the complete DEIS. Commenters should review and consider the complete DEIS in providing comments regarding the proposed action. If there are any inconsistencies between this posting and the DEIS, the DEIS controls.

The DEIS was prepared to assess the impacts of implementing a mine expansion at Smoky Canyon Mine, thus, disclosing those impacts to the public and agency decision makers.

The proposed extension of mining operations, in Panels F and G, lies within the Caribou-Targhee National Forest, on surface administered by the FS and on Federal phosphate leases administered by the BLM under authority of the Mineral Leasing Act of 1920. Mining, as proposed, would take place on two Federal phosphate leases; I-27512 and I-01441 including a lease modification (enlargement) of I-27512. These leases are adjacent to the existing mine and were previously issued to Simplot by competitive bid in January of 2001 and October of 1950 respectively. The proposed action includes the construction of two pits, Panels F and G, and a haul road to transport ore and employees between the pits and existing facilities. Mining would take place over an estimated 14 year period, with an additional two years to complete final reclamation. The environmental impacts of the proposed action, six mining alternatives, one no-mining alternative, and eight transportation alternatives are analyzed in the DEIS. Where necessary, site specific mitigation measures have been developed.

The BLM Idaho State Director, or delegated official, will make a decision regarding approval of the proposed Mine & Reclamation Plan and the proposed lease modifications. Decisions will be informed by the EIS and any recommendations the FS may have regarding surface management of leased National Forest System lands. The Caribou-Targhee National Forest Supervisor makes recommendations to the BLM concerning surface management and mitigation on leased lands within the Caribou-Targhee National Forest. For this proposal, the Forest Supervisor will make a decision whether to authorize off-lease facilities such as roads and power lines.

As a cooperating agency, the IDEQ has provided assistance and recommendations on aspects of the project pertaining to water quality and on water quality rules under their jurisdiction.

The agency Preferred Alternative would approve mining both leases described as Panel F and Panel G. The preferred mining alternative would be Alternative B—No External Seleniferous Overburden Fills. BLM would approve the proposed lease modifications. Based on analysis of surface and ground water impacts in Chapter 4, BLM would require construction of an infiltration barrier over seleniferous backfill, Alternative D. A Forest Service decision would approve power line placement on poles along the haul road, Alternative E, eliminating a separate power corridor. The transportation route between Panel F and existing mine would be constructed according to the Proposed Action. The preferred transportation route between Panel G and the existing mine is Alternative 2—East Haul/Access Road.

The proposed Mine & Reclamation Plan was submitted by J. R Simplot Company in April 2003. The proposed action consists of two open pits (Panel F on Federal phosphate lease I-27512 and Panel G on Federal phosphate lease I-01441), topsoil stockpiles, mine equipment parking and service areas, access and haul roads, a power line extension from the existing Smoky Canyon facilities, permanent external overburden storage areas, and runoff/sediment control facilities, electrical substation, warehouse and storage areas, repair shop, restrooms, fuel and lubricant storage. A new haul/access road to transport ore to the existing Smoky Canyon mill is proposed to be constructed from the south end of the existing Panel E approximately 2.5 miles to the proposed Panel F. As operations move south to Panel G, another haul road is proposed to transport ore 7.8 miles from Panel G north to Panel F. Much of these activities are proposed to occur within the Sage Creek Inventoried Roadless Area.

Ore would be hauled in trucks to the existing Smoky Canyon mill facility to be concentrated. Ore concentrate from the mill would be transported to the existing Simplot fertilizer plant in Pocatello, Idaho via the existing slurry pipeline. Mill tailings would continue to be deposited in the currently approved and permitted tailings disposal facility.

Initially, overburden generated from Panel F would be trucked to the existing Panel E open pit and used as backfill. Remaining overburden from Panel F would then be placed as part of a 38-acre external fill and then as backfill in Panel F as soon as practical. Overburden generated from mining Panel G would be permanently placed in 138 acres of external fills at Panel G as well as backfill in the Panel G open pit.

Disturbed lands directly resulting from the proposed activities would total 1,340 acres. Ninety-five percent of the project disturbance would be fully reclaimed. This would leave unreclaimed a total of 71 acres of highwall, road cuts in steep terrain, pit bottoms not filled to contour, and mine roads left as replacements to existing Forest Service roads. New pits would disturb approximately 763 acres, roads would disturb about 284 acres, external overburden fills would cover 176 acres and there would be 117 acres of disturbance for other mine features such as runoff management facilities, water monitoring, a power line corridor and topsoil piles.

Reclamation of mining disturbances would include: Removal of facilities and equipment, backfilling pits, regrading slopes, restoring drainages, covering seleniferous fills with at least 4 feet of chert material, spreading 1 to 3 feet of topsoil, stabilizing surfaces, revegetation, testing and treatment for any remaining hydrocarbon contaminants, and environmental monitoring.

Simplot has applied for a lease modification to expand Federal Phosphate Lease I-27512 for the Panel F operations. The application includes a 120-acre tract to recover ore and construct a road from Panel E on the northern edge of the lease and a larger 400 acre tract on the southern edge of the lease to recover ore. Subsequent to BLM's and Forest Service's preparation of the DEIS, Simplot has also applied for a lease modification to I-01441 to accommodate 18 acres of off-lease external overburden fill. The environmental impacts of mining operations within the lease modifications are analyzed in this EIS. BLM will review the applications, under the Mineral Leasing Act, and inform the public in accordance with the requirements of NEPA prior to any decision on these applications.

Alternatives

Issues were identified for the proposed mining of F and G panels by the agencies and by the public during the scoping process. They include potential effects on: ground water, surface water, geology and minerals, air quality and noise, soils, vegetation, wetlands, wildlife, fisheries and aquatic life, livestock grazing, recreation, Inventoried Roadless Areas, socio-economics, visual resources, cultural resources, and Tribal Treaty Rights. Alternatives to the proposed action were developed to address issues.

The EIS analyzes the environmental and human effects of the Proposed Action, six different mining alternatives, one no-action alternative, and eight different transportation alternatives. Mining alternatives include mining without one or any lease modifications, no external seleniferous overburden fills, no external overburden fills at all, construction of an infiltration barrier over seleniferous material, constructing the power line only within proposed disturbance, and using generators in Panel G instead of a power line. The transportation alternatives include one variation on the haul road between Panel F and the existing Panel E, two variations of a haul road from Panel G located east of the project area, a more direct—middle—haul road from Panel G to Panel F, a variation of the proposed West Haul Road, and using a conveyor system to transport ore from Panel G to the existing mill. If the conveyor transportation alternative is chosen then one of two different variations on moving people and equipment between Panel G and the existing mine were analyzed.

Dated: December 8, 2005.
Joe Kraayenbrink,
District Manager, Idaho Falls District, Bureau of Land Management.
Larry Timchak,
Forest Supervisor, Caribou-Targhee National Forest.

[FR Doc. 05-24630 Filed 12-28-05; 8:45 am]

BILLING CODE 4310-GG-P